DEPARTMENT OF HEALTH AND HUMAN SERVICES

Administration for Children and Families

Submission for OMB Review; Comment Request

Title: Federal Strategic Action Plan on Services for Victims of Human Trafficking: Enhancing the Health Care System's Response to Human Trafficking.

OMB No.: New Collection.

Description: In 2013, the U.S. Department of Health and Human Services co-chaired an inter-agency process with the Departments of Justice and Homeland Security to create the first Federal Strategic Action Plan on Services for Victims of Human Trafficking in the United States. The Plan addresses the needs for the implementation of coordinated, effective, culturally appropriate and trauma informed care for victims of human trafficking. The purpose of this initiative is to develop a pilot training project that will strengthen the health systems' response to human trafficking in four key ways:

1. Increase knowledge about human trafficking among health care providers;

2. Build the capacity of health care providers to deliver culturally appropriate and trauma-informed care to victims of human trafficking;

3. Increase the identification of victims of human trafficking; and

4. Increase services to survivors of human trafficking.

The evaluation is an impact evaluation, measuring immediate outcomes, e.g., from pre-intervention to post-intervention, as well as intermediate outcomes at a 3 month post intervention.

Respondents: The target audience for training and evaluation will be 300 health care providers from hospitals, clinics, and private health practices. The health care providers will be from federal, state/territorial, and local health departments, the Veterans' Administration, professional associations, and tribal institutions.

Annual Burden Estimates
Instrument | Number of respondents | Number of responses per respondent | Average burden hours per response | Total burden hours
Training | 300 | 1 | 2.0 | 600.00
Pre-training | 300 | 1 | .40 | 120.00
Post-training | 300 | 1 | .40 | 120.00
Email Follow-up | 60 | 1 | .40 | 120.00
Telephone Follow-up | 60 | 1 | .40 | 24.00
Telephone Follow-up | 60 | 1 | .40 | 984.00

Estimated Total Annual Burden Hours:

Additional Information: Copies of the proposed collection may be obtained by writing to the Administration for Children and Families, Office of Planning, Research and Evaluation, 370 L'Enfant Promenade SW., Washington, DC 20447, Attn: ACF Reports Clearance Officer. All requests should be identified by the title of the information collection. Email address: infocollection@acf.hhs.gov.

OMB Comment:

OMB is required to make a decision concerning the collection of information between 30 and 60 days after publication of this document in the Federal Register. Therefore, a comment is best assured of having its full effect if OMB receives it within 30 days of publication. Written comments and recommendations for the proposed information collection should be sent directly to the following: Office of Management and Budget, Paperwork Reduction Project, Email: OIRA_SUBMISSION@OMB.EOP.GOV, Attn: Desk Officer for the Administration for Children and Families.

Robert Sargis,
Reports Clearance Officer.

[FR Doc. 2014-14577 Filed 6-20-14; 8:45 am]

BILLING CODE 4184-01-P